FEDERAL COMMUNICATIONS COMMISSION

[CC Docket Nos. 94-1, 96-262, DA 06-1061]

Reconsideration of Price Cap Performance Review for Local Exchange Carriers

AGENCY: Federal Communications Commission.

ACTION: Notice, termination of proceeding.

SUMMARY: This document provides notice of the termination of the petitions for reconsideration of a 1997 Commission order, which established a 6.5 percent productivity-based X-factor and eliminated the sharing requirements in the Commission's price cap rules. The petitions for reconsideration have been withdrawn by the petitioners.

DATES: Effective June 30, 2006, unless the Wireline Competition Bureau receives an opposition to the termination prior to that date.

ADDRESSES: Oppositions to the proceeding termination should be mailed to the Commission's Secretary through the Commission's contractor, Natek, Inc., at 236 Massachusetts Avenue, NE., Suite 110, Washington, DC 20002.

FOR FURTHER INFORMATION CONTACT: Jennifer McKee, Wireline Competition Bureau, Pricing Policy Division, (202) 418-1530.

SUPPLEMENTARY INFORMATION: On August 5, 2004, the Wireline Competition Bureau released a Public Notice asking parties that filed petitions for reconsideration of the 1997 Price Cap Review Order, 62 FR 31939, June 11, 1997, to file a supplemental notice identifying those issues from their reconsideration petitions that they still wished the Commission to consider. The Public Notice stated that, to the extent parties did not indicate an intent to pursue their petitions, the Commission would deem the petitions withdrawn. The only petitioner that filed in response to the Public Notice was AT&T therefore, we deem all other petitions for reconsideration to have been withdrawn. On May 8, 2006, AT&T filed a letter withdrawing its petition for reconsideration. As all pending petitions for reconsideration have been withdrawn, this proceeding will be terminated effective June 30, 2006 unless the Wireline Competition Bureau receives an opposition to the termination before that date.

Parties filing oppositions to the termination of this proceeding should reference CC Docket Nos. 94-1 and 96-262. All pleadings may be filed using the Commission's Electronic Comment Filing System (ECFS) or by filing paper copies. Comments filed through the ECFS can be sent as an electronic file via the Internet to http://www.fcc.gov/e-file/ecfs.html. Multiple docket or rulemaking numbers appear in the caption of this proceeding; therefore, commenters must transmit one electronic copy of the comments to each docket or rulemaking number referenced in the caption. In completing the transmittal screen, commenters should include their full name, U.S. Postal Service mailing address, and the applicable docket or rulemaking number, in this case, CC Docket No. 94-1 and CC Docket No. 96-262. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. More than one docket or rulemaking number appears in the caption of this proceeding; therefore, commenters must submit two additional copies for each additional docket or rulemaking number. Filings can be sent by hand or messenger delivery, by commercial overnight courier, or by first-class or overnight U.S. Postal Service mail (although we continue to experience delays in receiving U.S. Postal Service mail). Parties are strongly encouraged to file comments electronically using the Commission's ECFS.

The Commission's contractor, Natek, Inc., will receive hand-delivered or messenger-delivered paper filings for the Commission's Secretary at 236 Massachusetts Avenue, NE., Suite 110, Washington, DC 20002.

• The filing hours at this location are 8 a.m. to 7 p.m.

• All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

All filings must be addressed to the Commission's Secretary, Marlene H. Dortch, Office of the Secretary, Federal Communications Commission, Room TW-A325, 445 12th Street, SW., Washington, DC 20554. Parties should also send a copy of their filings to Jennifer McKee, Pricing Policy Division, Wireline Competition Bureau, Federal Communications Commission, Room 5-A263, 445 12th Street, SW., Washington, DC 20554, or by e-mail to jennifer.mckee@fcc.gov. Parties shall also serve one copy with the Commission's copy contractor, Best Copy and Printing, Inc. (BCPI), Portals II, 445 12th Street, SW., Room CY-B402, Washington, DC 20554, (202) 488-5300, or via e-mail to fcc@bcpiweb.com.

Documents filed in CC Docket Nos. 94-1 and 96-262 are available for public inspection and copying during business hours at the FCC Reference Information Center, Portals II, 445 12th Street SW., Room CY-A257, Washington, DC 20554. The documents may also be purchased from BCPI, telephone (202) 488-5300, facsimile (202) 488-5563, TTY (202) 488-5562, or by e-mail at fcc@bcpiweb.com.

To request materials in accessible formats for people with disabilities (braille, large print, electronic files, audio format), send an e-mail to fcc504@fcc.gov or call the Consumer and Governmental Affairs Bureau at (202) 418-0530 (voice), (202) 418-0432 (TTY).

This matter shall be treated as a “permit-but-disclose” proceeding in accordance with the Commission's ex parte rules. 47 CFR 1.1200 et seq. Persons making oral ex parte presentations are reminded that memoranda summarizing the presentations must contain summaries of the substance of the presentations and not merely a listing of the subjects discussed. More than a one- or two-sentence description of the views and arguments presented generally is required. 47 CFR 1.1206(b)(2). Other requirements pertaining to oral and written presentations are set forth in section 1.1206(b) of the Commission's rules. 47 CFR 1.1206(b).

Authority: 47 U.S.C. 152, 153, 154, 155, 44 FR 18501, 67 FR 13223, 47 CFR 0.291, 1.749.

Federal Communications Commission.
Thomas J. Navin,
Chief, Wireline Competition Bureau.

[FR Doc. E6-8411 Filed 5-30-06; 8:45 am]

BILLING CODE 6712-01-P